DEPARTMENT OF LABOR

Employment and Training Administration

[TA-W-70,102]

Fairchild Semiconductor, Signal Path Organization, South Portland, ME; Notice of Termination of Investigation

Pursuant to Section 221 of the Trade Act of 1974, as amended, an investigation was initiated in response to a petition filed on May 19, 2009, by a state workforce office on behalf of workers of Fairchild Semiconductor, Signal Path Organization, South Portland, Maine.

The petitioner has requested that the petition be withdrawn. Accordingly, the investigation has been terminated.

Signed at Washington, DC, this 8th day of July 2009.
Linda G. Poole,
Certifying Officer, Division of Trade Adjustment Assistance.

[FR Doc. E9-18652 Filed 8-4-09; 8:45 am]

BILLING CODE 4510-FN-P